DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 11, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on March 5, 2019.
Donald P. Burger,
Chief, General Approvals and Permits Branch.

Application No. | Applicant | Regulation(s) affected | Nature of the special permits thereof
SPECIAL PERMITS DATA
20830-N | ARKEMA, INC | 173.302a(a)(1) | To authorize the transportation of boron trifluoride in non-DOT specification spherical pressure vessels. (modes 1, 2, 3).
20831-N | CYLINDER SALES AND TESTING, LLC | 180.209(a), 180.209(b), 180.209(b)(1)(iv) | To authorize the transportation in commerce of certain hazardous materials in DOT Specification 3AL cylinders manufactured from aluminum alloy 6061-T6 that are requalified every ten years rather than every five years using 100% ultrasonic examination. (modes 1, 2, 3, 4, 5).
20833-N | SAMSUNG SDI AMERICA, INC | 172.101(j) | To authorize the air transportation of lithium ion batteries exceeding 35 kg net weight. (mode 4).
20834-N | ECC CORROSION INC | 107.503(b), 107.503(c), 173.241, 173.242, 173.243, 178.345-1(d), 178.345-1(f), 178.345-2, 178.345-3, 178.345-4, 178.345-7, 180.405, 180.413 | To authorizing the manufacture, marking, sale and use of non-DOT specification glass fiber reinforced plastic cargo tanks conforming with regulations applicable to DOT Specifications 407 and 412 for the transportation of hazardous materials in commerce. (mode 1).
20835-N | AKZO NOBEL FUNCTIONAL CHEMICALS LLC | 178.337-8(a)(3), 178.337-8(a)(4) | To authorize the shipment of UN3394 and UN3399 metal alkyls in MC331 cargo tanks that house product inlet and discharge opening valves in a protective recessed well of the cargo tank. (mode 1).
20836-N | ELCO CORPORATION | 173.35(e) | To authorize the transportation of certain hazmat where two or more closure systems are fitted in series, the system nearest to the hazardous material being carried must be closed first. (mode 1).
20838-N | AIR LIQUIDE ELECTRONICS U.S. LP | 180.205(g) | To authorize the transportation in commerce of cylinders containing dichlorosilane which have been periodically requalified using alternative methods. (modes 1, 2, 3).
20839-N | A123 SYSTEMS LLC | 172.101(j) | To authorize the transportation in commerce of lithium battery assemblies exceeding 35 kg aboard cargo-only aircraft. (mode 4).
20841-N | STERILMED, INC | 172.203(a), 172.302(c), 173.134(b)(12)(i) | To authorize the transportation in commerce of medical equipment in accordance with 49 CFR 173.134(b)(12)(i) when some medical equipment will ultimately be sent for disposal. (mode 1).
20843-N | SPACEFLIGHT, INC | 173.185(a) | To authorize the transportation in commerce of low production lithium ion batteries contained in spacecraft by air. (mode 4).

[FR Doc. 2019-04451 Filed 3-11-19; 8:45 am]

BILLING CODE 4909-60-P